DEPARTMENT OF EDUCATION

Office of Special Education and Rehabilitative Services; List of Correspondence

AGENCY: Department of Education.

ACTION: List of Correspondence from October 1, 2009 through December 31, 2009.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA.

FOR FURTHER INFORMATION CONTACT: Laurel Nishi or Mary Louise Dirrigl. Telephone: (202) 245-7468.

If you use a telecommunications device for the deaf (TDD), you can call the Federal Relay Service (FRS), toll free, at 1-800-877-8339.

Individuals with disabilities can obtain a copy of this notice in an accessible format (e.g., braille, large print, audiotape, or computer diskette) on request to the contact persons listed under FOR FURTHER INFORMATION CONTACT.

SUPPLEMENTARY INFORMATION: The following list identifies correspondence from the Department issued from October 1, 2009 through December 31, 2009. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 611—Authorization; Allotment; Use of Funds; Authorization of Appropriations

Topic Addressed: State Administration

○ Letters dated November 13, 2009 to Senator Lamar Alexander, Senator Richard M. Burr, Senator Tom Coburn, Senator Michael B. Enzi, Senator Judd Gregg, Senator Orrin G. Hatch, and Senator Johnny Isakson, regarding the Secretary's authority to adjust the statutory caps on State administration for Federal fiscal year 2009 under section 611 of the IDEA and Title I of the Elementary and Secondary Education Act of 1965, as amended, to help defray the costs of implementing the data collection requirements associated with the American Recovery and Reinvestment Act of 2009 (ARRA).

Topic Addressed: Use of Funds

○ Letter dated October 27, 2009 to National Association of Private Special Education Centers Executive Director and CEO Sherry L. Kolbe, clarifying when Part B, IDEA funds may be used for professional development activities for private school personnel and contractors serving children with disabilities placed in private schools by public agencies.

Section 612—State Eligibility

Topic Addressed: Maintenance of State Financial Support

○ Office of Special Education Programs Memorandum 10-5, dated December 2, 2009 to Chief State School Officers and State Directors of Special Education, regarding the State funds that must be included in the calculation of State financial support for special education and related services.

Topic Addressed: Children in Private Schools

○ Letter dated December 8, 2009 to New York Attorney Lawrence D. Weinberg, regarding whether parents can obtain reimbursement under Part B of the IDEA for the cost of a private placement for a child not previously found eligible for special education and related services.

Section 613—Local Educational Agency Eligibility

Topic Addressed: Maintenance of Effort

○ Letter dated October 29, 2009 to Learning Disabilities Association of Connecticut Board of Directors Secretary Diane Willcutts, regarding the use of ARRA Part B, IDEA funds by local educational agencies (LEAs) and LEA maintenance of effort requirements.

○ Letter dated November 13, 2009 to Iowa Department of Education Chief Lana Michelson and Legal Consultant Thomas A. Mayes, reaffirming the Department's position that a State educational agency (SEA) must prohibit an LEA from taking advantage of the LEA maintenance of effort reduction if the SEA identifies the LEA as having significant disproportionality.

Section 616—Monitoring, Technical Assistance, and Enforcement

Topic Addressed: State Determinations on the Performance of Each Local Educational Agency

○ Letter dated October 21, 2009 to Chief State School Officers and State Directors of Special Education urging States to maintain high standards and not compromise the determination process under section 616(d)(2) of the IDEA.

○ Letter dated October 30, 2009 to Montana Office of Public Instruction Director of Special Education Tim Harris, clarifying that an SEA must prohibit an LEA that receives a determination of “needs assistance,” “needs intervention,” or “needs substantial intervention” pursuant to section 616(d)(2) of the IDEA from taking advantage of the 50 percent LEA maintenance of effort reduction.

Part C—Infants and Toddlers With Disabilities

Section 635—Requirements for Statewide System

Topic Addressed: Complaint Resolution

○ Letter dated October 27, 2009 to Nevada Aging and Disability Services Division Part C Coordinator Wendy Whipple, regarding the obligation of the State lead agency to provide compensatory services under Part C of the IDEA for children who were denied early intervention services, even after they moved out of the State.

Section 639—Procedural Safeguards

Topic Addressed: Evaluations, Parental Consent, and Reevaluations

○ Letter dated November 13, 2009 to California Early Start Part C Coordinator Rick Ingraham, regarding when parental consent must be obtained for changes in the individualized family service plan.

Other Letters That Do Not Interpret the Idea But May Be of Interest To Readers

Topic Addressed: Seclusion and Restraint

○ Letter dated December 8, 2009 to Senator Christopher J. Dodd, Representative George Miller, and Congresswoman Cathy McMorris Rodgers, outlining principles for Congress to consider in developing legislation to limit the use of physical restraint and seclusion in schools and other educational settings that receive Federal funds.

Electronic Access To This Document

You can view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll-free, at 1-888-293-6498; or in the Washington, DC area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: May 24, 2010.
Alexa Posny,
Assistant Secretary for Special Education and Rehabilitative Services.

[FR Doc. 2010-12946 Filed 5-27-10; 8:45 am]

BILLING CODE 4000-01-P